DEPARTMENT OF COMMERCE

National Institute of Standards and Technology

Malcolm Baldrige National Quality Award Board of Overseers

AGENCY: National Institute of Standards and Technology, Department of Commerce.

ACTION: Notice of Open Meeting.

SUMMARY: The Board of Overseers of the Malcolm Baldrige National Quality Award (Board of Overseers) will meet in open session on December 13, 2011. The purpose of this meeting is to discuss and review information received from the National Institute of Standards and Technology and from the Chair of the Judges Panel of the Malcolm Baldrige National Quality Award. The agenda will include: Report from the Judges' Panel, Baldrige Performance Excellence Program (BPEP) Update, Baldrige Fellows Program Status Report, Baldrige Program Changes in 2011, and Recommendations for the NIST Director.

DATES: The meeting will convene December 13, 2011, at 8:30 a.m. and adjourn at 3 p.m. on December 13, 2011.

ADDRESSES: The meeting will be held at the National Institute of Standards and Technology, Advanced Chemical Sciences Laboratory (Building 227), Room A302, Gaithersburg, Maryland 20899. Please note admittance instructions under the SUPPLEMENTARY INFORMATION section of the notice.

FOR FURTHER INFORMATION CONTACT: Dr. Harry Hertz, Director, BPEP, National Institute of Standards and Technology, Gaithersburg, Maryland 20899, telephone number (301) 975-2361.

SUPPLEMENTARY INFORMATION: Pursuant to the Federal Advisory Committee Act, 5 U.S.C. App., the Board of Overseers will meet in open session on December 13, 2011. The Board of Overseers is composed of 11 members prominent in the fields of quality, innovation, and performance management and appointed by the Secretary of Commerce, assembled to advise the Secretary of Commerce on the conduct of the Baldrige Award. The agenda will include: Report from the Judges' Panel, BPEP Update, Baldrige Fellows Program Status Report, Baldrige Program Changes in 2011, and Recommendations for the NIST Director.

All visitors to the National Institute of Standards and Technology site will have to pre-register to be admitted. Please submit your name, time of arrival, email address and phone number to Diane Harrison no later than Wednesday, December 8, 2011, and she will provide you with instructions for admittance. Non-U.S. citizens must also submit their passport number, country of citizenship, title, employer/sponsor, address and telephone. Ms. Harrison's email address is diane.harrison@nist.gov and her phone number is (301) 975-2361.

Dated: November 10, 2011.
Phillip Singerman,
Associate Director for Innovation & Industry Services.

[FR Doc. 2011-29646 Filed 11-17-11; 8:45 am]

BILLING CODE 3510-13-P